DEPARTMENT OF JUSTICE

Office of Justice Programs

[OJP (NIJ) Docket No. 1723]

Notice of Public Comment Period on the DRAFT “National Best Practices for Sexual Assault Kits: A Multidisciplinary Approach”

AGENCY: National Institute of Justice, Justice.

ACTION: Notice.

SUMMARY: This notice announces the opening of the public comment period for the DRAFT “National Best Practices for Sexual Assault Kits: A Multidisciplinary Approach.”

DATES: Written public comment regarding the publication should be submitted through www.regulations.gov on or before September 2, 2016.

FOR FURTHER INFORMATION CONTACT: Heather Waltke, Associate Director, Office of Investigative and Forensic Sciences, National Institute of Justice, 810 7th Street NW., Washington, DC 20531, or via email at Heather.Waltke@usdoj.gov.

SUPPLEMENTARY INFORMATION: The Sexual Assault Forensic Evidence Reporting Act of 2013 (the “SAFER Act”) was enacted as Title X of Public Law 113-4, the Violence Against Women Reauthorization Act of 2013. It was created, in part, to develop protocols and practices appropriate for the accurate, timely, and effective collection and processing of DNA evidence, including protocols and practices specific to sexual assault cases, which shall address appropriate steps in the investigation of cases that might involve DNA evidence[.]” ¹ More specifically, these protocols and practices are to provide recommendations in a variety of focus areas, including outlining parameters for identifying and prioritizing DNA evidence such as sexual assault kits (SAKs) to be tested, identifying reasonable time periods for testing, identifying effective processes for communicating information about evidence testing between stakeholders, and establishing standards for conducting audits of sexual assault evidence that has never been submitted to a laboratory for testing.

¹ 42 U.S.C. 14135(o)(1).

The National Institute of Justice (NIJ)—the research, development and evaluation agency of the U.S. Department of Justice—convened several working group meetings representing victims, victim advocates, sexual assault nurse examiners, medical examiners, forensic laboratories, law enforcement agencies, prosecutors and the judiciary. The working group was directed to address issues relating to evidence collection; prioritization of evidence and time periods for collection; evidence inventory, tracking, and auditing technology solutions; and communication strategies. The working group met over a twenty-four month period to develop recommendations for sexual assault evidence, whether it originates from a SAK collected decades ago and was recently discovered in storage during a statutorily-mandated inventory or, from a SAK collected in connection with a recent sexual assault. Following months of drafting and deliberations, including input from many stakeholders during that time, NIJ is now requesting comments on a DRAFT document titled, “National Best Practices for Sexual Assault Kits: A Multidisciplinary Approach.” This document is intended to provide a multidisciplinary and diverse group of practitioners with critical information that will assist in the collection, tracking, and processing of sexual assault kits. In addition, the document provides victim-centered and trauma-informed approaches to assisting victims throughout the criminal justice process.

Posting of Public Comments: To ensure proper handling of comments, please reference “Docket No. 1723” on all electronic correspondence. All comments regarding the National Best Practices for Sexual Assault Kits: A Multidisciplinary Approach should be submitted electronically through www.regulations.gov using the electronic comment form provided on that site. All comments submitted to www.regulations.gov will be posted for public review and are part of the official docket record. NIJ encourages the public to comment and all comments will be considered; however, no direct feedback or responses to comments will be provided.

In accordance with the Federal Records Act, please note that all comments received are considered part of the public record, and shall be made available for public inspection online at http://www.regulations.gov. The comments to be posted may include personally identifiable information (such as your name, address, etc.) and confidential business information voluntarily submitted by the commenter.

DOJ will post all comments received on http://www.regulations.gov without making any changes to the comments or redacting any information, including any personally identifiable information provided. It is the responsibility of the commenter to safeguard personally identifiable information. You are not required to submit personally identifying information in order to comment on this document and NIJ recommends that commenters not include personally identifiable information such as Social Security Numbers, personal addresses, telephone numbers, and email addresses that they do not want made public in their comments as such submitted information will be available to the public via http://www.regulations.gov. Comments submitted through http://www.regulations.gov will not include the email address of the commenter unless the commenter chooses to include that information as part of his or her comment.

Gerald LaPorte,
Director, Office of Investigative and Forensic Sciences, National Institute of Justice.

[FR Doc. 2016-18334 Filed 8-2-16; 8:45 am]

BILLING CODE 4410-18-P